DEPARTMENT OF EDUCATION

[CFDA Nos. 84.133S and 84.305S]

Office of Special Education and Rehabilitative Services (OSERS) and the Office of Educational Research and Improvement (OERI); Small Business Innovation Research (SBIR) Program—Phase I Notice Inviting Grant Applications for New Awards for Fiscal Year (FY) 2002

Note to Applicants: Beginning in FY 2002, OSERS and OERI are switching from contracts to grants to conduct the Department's SBIR Phase I competition.

Purpose of Program: The purpose of this program is to stimulate technological innovation in the private sector, strengthen the role of small business in meeting Federal research or research and development (R/R&D) needs, increase the commercial application of Department of Education (ED) supported research results, and improve the return on investment from Federally-funded research for economic and social benefits to the Nation.

For FY 2002, we encourage applicants to present activities that focus on the invitational priorities in the PRIORITIES section of this application notice.

Eligible Applicants: Each organization submitting an application must qualify as a small business concern as defined by the Small Business Administration (SBA) at the time of the award. This definition is included in the application package.

Firms with strong research capabilities in educational and assistive technologies, science, or engineering in any of the priority areas listed are encouraged to participate. Consultative or other arrangements between these firms and universities or other non-profit organizations are permitted, but the small business must serve as the grantee.

If it appears that an applicant organization does not meet the eligibility requirements, we will request an evaluation by the SBA. Under circumstances in which eligibility is unclear, we will not make an SBIR award until the SBA makes a determination.

Applications Available: May 15, 2002.

Deadline for Transmittal of Applications: July 10, 2002.

Estimated Available Funds: Up to $4,200,000 for new Phase I awards.

The estimated amount of funds available for new Phase I awards is based upon the threshold SBIR allocation for OSERS and OERI, minus prior commitments for Phase II continuation awards. The actual funds available could be less, should either office make any new Phase II awards (contracts) in FY 2002.

Estimated Average Size of Awards: Up to $75,000.

Maximum Award: We will reject any application that proposes a budget exceeding $75,000 for a single budget period of 6 months.

Estimated Number of Awards: 40.

Note: The Department is not bound by any estimates in this notice.

Project Period: Up to 6 months.

Page Limits: The application narrative is where you, the applicant, address the selection criteria that reviewers use to evaluate your application. You must limit your application narrative to the equivalent of no more than 25 pages, excluding any documentation of prior multiple Phase II awards, if applicable; and attachments responding to the “Assurances, Certifications, and Disclosures” section of the application package. The following standards should be used:

• A “page” is 8.5″ x 11″, on one side only, with 1″ margins at the top, bottom, and both sides.

• Single space all text in the application narrative, including titles, headings, footnotes, quotations, references, and captions, as well as all text in charts, tables, figures, and graphs.

• Use a font that is either 12-point or larger or no smaller that 10 pitch (characters per inch). Standard black type should be used to permit photocopying.

• Draw all graphs, diagrams, tables, and charts in black ink. Do not include glossy photographs, or materials that cannot be photocopied, in the body of the application.

The application package will provide instructions for completing all components to be included in the application. Each application must include an application cover sheet (ED Standard Form 424); an abstract or summary page; a description of the technical content, staff qualifications, facilities and equipment, budget requirements (ED Form 524 or facsimile), and related application(s) or award(s); and documentation of multiple Phase II awards.

We will reject your application if—

• You apply these standards and exceed the page limit; or

• You apply other standards and exceed the equivalent of the page limit.

Applicable Statutes and Regulations

(a) Statutes. The Small Business Reauthorization Act of 2000, Pub. L. 106-554 (15 U.S.C. 631 and 638); Title II of the Rehabilitation Act of 1973, as amended, Pub. L. 105-220 (29 U.S.C. 760-764); The Educational Research, Development, Dissemination, and Improvement Act of 1994, Pub. L.103-227 (20 U.S.C. 6001 et seq.

(b) Regulations—General Applicability. The Education Department General Administrative Regulations (EDGAR) in 34 CFR parts 74, 75, 77, 81, 82, 85, 97, and 98.

(c) Regulations—Limited Applicability. For OERI, its program regulations in 34 CFR part 700 (except for subpart D-Evaluation Criteria).

Note on Peer Review Procedures: OSERS and OERI will apply their own requirements. (1) For OSERS, the requirements are contained in 29 U.S.C. 760 and 762(f); (2) For OERI, the requirements are contained in 34 CFR part 700, subparts B and C.

Priorities

For FY 2002, we have selected 10 priorities for the SBIR program. SBIR projects are encouraged to look to the future by exploring uses of technology to ensure equal access to education and promote educational excellence throughout the nation.

The application package will include a number of examples to illustrate the kinds of activities that could be funded under each priority. Specific examples are listed only as examples of advanced applications or basic research of interest to us, and they are not to be interpreted as exclusive. We intend to provide sufficient flexibility to obtain the greatest degree of creativity and innovation possible, consistent with overall SBIR and ED program objectives.

An application should be limited to one priority listed in this notice. When an application is relevant to more than one priority, the applicant should decide which priority is most relevant and submit it under that priority only. However, there is no limitation on the number of different applications that an applicant may submit under this competition, even to the same priority. A firm may submit separate applications on different priorities, or different applications on the same priority, but each application should respond to only one priority. Duplicate applications will be returned without review.

Invitational Priorities

We are particularly interested in applications that meet one of the following priorities. Under 34 CFR 75.105(c)(1) we do not give an application that meets one of these priorities a competitive or absolute preference over other applications.

CFDA Number 84.133S: The Office of Special Education and Rehabilitative Services (OSERS)

The following seven priorities relate to innovative research utilizing new technologies (including nanotechnologies and biotechnologies) to address the needs of individuals with disabilities and their families.

Priority 1—Development of Technology to Support Access and Integration of Individuals with Disabilities in the Community, Workplace, or Educational Setting.

Priority 2—Research and Development of Technology to Improve the Sensory or Motor Health of Individuals with Disabilities.

Priority 3—Research and Development of Assistive Technology to Improve the Function of Individuals with Disabilities of All Ages.

Priority 4—Research and Development of Technology to Improve School to Work Transition and Employment Outcomes for Individuals with Disabilities.

Priority 5—Research in Positive Behavioral Supports or Behavioral Health Care to Support Independent Living/Community Integration and Participation in Educational and Vocational Activities.

Priority 6—Research and Development of Technology in Support of Early Intervention for Infants, Toddlers, and Small Children.

Priority 7—Research and Development of Outcome Measurements Related to Use of Disability and Rehabilitation Technologies in Medical, Community, Home, Transportation, Educational, or Employment Settings.

CFDA Number 84.305S: The Office of Educational Research and Improvement (OERI)

The following three priorities focus on student achievement of at-risk students in pre-kindergarten to postsecondary education and adult learning.

Priority 8—Development and Adaptation of Innovative Technologies to Improve Instruction, Learning, and Achievement in Reading, Mathematics, and Sciences.

Priority 9—Development and Adaptation of Innovative Technologies to Support High Standards and Accountability through Testing, Assessment, and Evaluation.

Priority 10—Development and Adaptation of Innovative Technologies to Improve the Involvement of Parents and Communities in Education and to Use Resources Effectively for Student Learning and Education Reform.

Selection Criteria: Under 34 CFR 75.210, we use the following selection criteria to evaluate applications for new grants under this competition. The maximum score for all of these criteria is 100 points. The maximum score for each criterion is indicated in parentheses.

(a) Quality of Project Design (45 points).

(b) Significance (25 points).

(c) Quality of Project Personnel (20 points).

(d) Adequacy of Resources (10 points).

We will make awards based upon these selection criteria and the availability of funds. In the evaluation and handling of applications, we will make every effort to protect the confidentiality of the application and any evaluations.

SUPPLEMENTARY INFORMATION:

Background

The Small Business Reauthorization Act (the “Act”) of 2000 was enacted on December 21, 2000. The Act requires certain agencies, including the Department of Education, to establish SBIR programs by reserving a statutory percentage of their extramural research and development budgets to be awarded to small business concerns for research or R&D through a uniform, highly competitive three-phase process.

The three phases of the SBIR program are:

Phase I: Phase I is to determine, insofar as possible, the scientific or technical merit and feasibility of ideas submitted under the SBIR program. The application should concentrate on research that will significantly contribute to proving the scientific or technical feasibility of the approach or concept and that would be prerequisite to further ED support in Phase II.

Phase II: Phase II is to expand on the results of and to further pursue the development of Phase I projects. Phase II is the principal research or R&D effort. It requires a more comprehensive application, outlining the effort in detail including the commercial potential. Phase II applicants must be Phase I awardees with approaches that appear sufficiently promising as a result of Phase I. Awards are for periods up to 2 years in amounts up to $500,000 (beginning in FY 2003).

Phase III: In Phase III, the small business must use non-SBIR capital to pursue commercial applications of the research or research and development. Also, under Phase III, Federal agencies may award non-SBIR follow-on funding for products or processes that meet the needs of those agencies.

FOR APPLICATIONS AND FURTHER INFORMATION CONTACT: For General Information: Lee Eiden, U.S. Department of Education, 555 New Jersey Avenue, NW., room 508D, Washington, DC 20208-5644. Telephone (202) 219-2004 or via Internet: lee.eiden@ed.gov.

For Priorities 1-7 (OSERS): Kristi Wilson, U.S. Department of Education, 330 “C” Street, SW., room 3433, Washington, DC 20202-2572. Telephone (202) 260-0988 or via Internet: kristi.wilson@ed.gov.

For Priorities 8-10 (OERI): Ram Singh, U.S. Department of Education, 555 New Jersey Avenue, NW., room 514, Washington, DC 20208-5573. Telephone (202) 219-2025 or via Internet: ram.singh@ed.gov.

If you use a telecommunications device for the deaf (TDD), you may call the Federal Information Relay Service (FIRS) at 1-800-877-8339.

Individuals with disabilities may obtain this document in an alternative format (e.g., Braille, large print, audiotape, or computer diskette) on request to either of the program contact persons listed under FOR APPLICATIONS AND FURTHER INFORMATION CONTACT.

Individuals with disabilities may obtain a copy of the application package in an alternative format by contacting one of the contact persons listed under FOR APPLICATIONS AND FURTHER INFORMATION CONTACT. However, the Department is not able to reproduce in an alternative format the standard forms included in the application package.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on the GPO Access at: http://www.access.gpo.gov/nara/index.html

Program Authority: Pub. L. 106-554 (The Small Business Reauthorization Act of 2000); Pub. L. 105-220 (Title II of the Rehabilitation Act of 1973, as amended); and Pub. L. 103-227 (The Educational Research, Development, Dissemination, and Improvement Act of 1994).

Dated: May 8, 2002.
Robert H. Pasternack,
Assistant Secretary for Special Education and Rehabilitative Services.
Grover J. Whitehurst,
Assistant Secretary for Educational Research and Improvement.

[FR Doc. 02-11924 Filed 5-10-02; 8:45 am]

BILLING CODE 4000-01-U